SMALL BUSINESS ADMINISTRATION

[Disaster Declaration #10817]

Oregon Disaster Number OR-00017

AGENCY: Small Business Administration.

ACTION: Amendment 1.

SUMMARY: This is an amendment of the Presidential declaration of a major disaster for Public Assistance Only for the State of Oregon (FEMA-1683-DR), dated 02/22/2007.

Incident: Severe Winter Storm and Flooding.

Incident Period: 12/14/2006 through 12/15/2006.

Effective Date: 03/16/2007.

Physical Loan Application Deadline Date: 04/23/2007.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street, SW., Suite 6050, Washington, DC 20416.

SUPPLEMENTARY INFORMATION: The notice of the President's major disaster declaration for Private Non-Profit organizations in the State of Oregon, dated 02/22/2007, is hereby amended to include the following areas as adversely affected by the disaster.

Primary Counties:

Wasco.

All other information in the original declaration remains unchanged.

(Catalog of Federal Domestic Assistance Number: 59008)

Herbert L. Mitchell,
Associate Administrator for Disaster Assistance.

[FR Doc. E7-5427 Filed 3-23-07; 8:45 am]

BILLING CODE 8025-01-P